ENVIRONMENTAL PROTECTION AGENCY

[FRL-8694-4]

Clean Water Act Section 303(d): Availability of List Decisions

AGENCY: Environmental Protection Agency (EPA).

ACTION: Notice of Availability.

SUMMARY: This notice announces the availability of EPA's final action identifying water quality limited segments and associated pollutants in Texas to be listed pursuant to Clean Water Act (CWA) Section 303(d), and request for public comment. Section 303(d) requires that states submit and EPA approve or disapprove lists of waters for which existing technology-based pollution controls are not stringent enough to attain or maintain state water quality standards and for which total maximum daily loads (TMDLs) must be prepared.

On July 9, 2008, EPA partially approved, and partially disapproved, Texas' 2008 303(d) submission. Specifically, EPA approved Texas' listing of 836 water body-pollutant combinations, and associated priority rankings. EPA disapproved Texas' decision not to list one (1) water body-pollutant combination. EPA identified this additional water body pollutant-combination along with priority ranking for inclusion on the 2008 Section 303(d) List.

EPA is providing the public the opportunity to review its final decision to add one water body pollutant-combination to Texas' 2008 Section 303(d) List, as required by EPA's Public Participation regulations (40 CFR Part 25). EPA will consider public comments and if necessary amend its final action on the additional water body pollutant-combination identified for inclusion on Texas' Final 2008 Section 303(d) List.

DATES: Comments must be submitted in writing to EPA on or before August 18, 2008.

ADDRESSES: Comments on the decisions should be sent to Diane Smith, Environmental Protection Specialist, Water Quality Protection Division, U.S. Environmental Protection Agency Region 6, 1445 Ross Ave., Dallas, TX 75202-2733, telephone (214) 665-2145, facsimile (214) 665-7373, or e-mail: smith.diane@epa.gov. Oral comments will not be considered. Copies of the documents which explain the rationale for EPA's decision and a list of the water quality limited segment for which EPA disapproved Texas' decision not to list can be obtained at EPA Region 6's Web site at http://www.epa.gov/region6/water/npdes/tmdl/index.htm, or by writing or calling Ms. Smith at the above address. Underlying documents from the administrative record for these decisions are available for public inspection at the above address. Please contact Ms. Smith to schedule an inspection.

FOR FURTHER INFORMATION CONTACT: Diane Smith at (214) 665-2145.

SUPPLEMENTARY INFORMATION: Section 303(d) of the CWA requires that each state identify those waters for which existing technology-based pollution controls are not stringent enough to attain or maintain state water quality standards. For those waters, states are required to establish TMDLs according to a priority ranking.

EPA's Water Quality Planning and Management regulations include requirements related to the implementation of Section 303(d) of the CWA (40 CFR 130.7). The regulations require states to identify water quality limited waters still requiring TMDLs every two years. The list of waters still needing TMDLs must also include priority rankings and must identify the waters targeted for TMDL development during the next two years (40 CFR 130.7).

Consistent with EPA's regulations, Texas submitted to EPA its listing decisions under Section 303(d) on April 1, 2008. On July 9, 2008, EPA approved Texas' listing of 836 water body-pollutant combinations and associated priority rankings. EPA disapproved Texas' decision not to list one (1) water body-pollutant combination. EPA identified this additional water body pollutant-combination along with priority ranking for inclusion on the 2008 Section 303(d) List. EPA solicits public comment on its identification of one (1) additional water body-pollutant combination for inclusion on Texas' 2008 Section 303(d) List.

Dated: July 10, 2008.
Miguel I. Flores,
Director, Water Quality Protection Division, Region 6.

[FR Doc. E8-16387 Filed 7-16-08; 8:45 am]

BILLING CODE 6560-50-P